DEPARTMENT OF DEFENSE

Department of the Navy

[Docket No. USN-2010-0004]

Submission for OMB Review; Comment Request

ACTION: Notice.

The Department of Defense has submitted to OMB for clearance, the following proposal for collection of information under the provisions of the Paperwork Reduction Act (44 U.S.C. Chapter 35).

DATES: Consideration will be given to all comments received by October 18, 2010.

Title and OMB Number: JAGC Applicant Survey; OMB Control Number 0703-TBD.

Type of Request: New.

Number of Respondents: 800.

Responses per Respondent: 1.

Annual Responses: 800.

Average Burden Per Response: 15 minutes.

Annual Burden Hours: 200 hours.

Needs and Uses: The U.S. Navy Judge Advocate General requires a method to improve recruiting and accession board processes in order to recruit and select the best individuals as judge advocates. A survey will allow the JAG Corps to assess whether certain traits and/or behaviors are indicators of future success in the JAG Corps. If the survey is found to be predictive, it will be a reliable, valid, and fair tool to be used in recruiting and selection decisions.

Affected Public: Individuals or household.

Frequency: On occasion.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: September 3, 2010.
Patricia L. Toppings,
OSD Federal Register Liaison Officer, Department of Defense.

[FR Doc. 2010-23087 Filed 9-15-10; 8:45 am]

BILLING CODE 5001-06-P